DEPARTMENT OF DEFENSE

48 CFR Parts 202, 204, 207, 208, 222, and 252, and Appendices B, E, and F to Chapter 2

Defense Federal Acquisition Regulation Supplement; Technical Amendments

AGENCY: Deaprtment of Defense (DoD).

ACTION: Final rule.

SUMMARY: The Acting Director of Defense Procurement is making technical amendments to the Defense Federal Acquisition Regulation Supplement to update activity names, addresses, and telephone numbers; delete obsolete text; update paragraph numbering and cross-references; and update certain commodity assignments under the DoD Coordinated Acquisition Program.

EFFECTIVE DATE: March 16, 2000.

FOR FURTHER INFORMATION CONTACT: Ms. Michele Peterson, Defense Acquisition Regulations Council, PDUSD (AT&L) DP (DAR), IMD 3D139, 3062 Defense Pentagon, Washington, DC 20301-3062. Telephone (703) 602-0311; telefax (703) 602-0350.

List of Subjects in 48 CFR Parts 202, 204, 207, 208, 222, and 252

Government procurement.

Michele P. Peterson,
Executive Editor, Defense Acquisition Regulations Council.

Therefore, 48 CFR Parts 202, 204, 207, 208, 222, and 252 and Appendices B, E, and F to Chapter 2 are amended as follows:

1. The authority citation for 48 CFR Parts 202, 204, 207, 208, 222, and 252, and Appendices B, E, and F to subchapter I continues to read as follows:

Authority: 41 U.S.C. 421 and 48 CFR Chapter 1.

PART 202—DEFINITIONS OF WORDS AND TERMS

202.101 [Amended]

2. Section 202.101 is amended in the definition of “Contracting activity”, under the heading “NAVY”, by removing the entry “Directorate of Procurement Policy, Office of the Assistant Secretary of the Navy (Research, Development, and Acquisition)”.

PART 204—ADMINISTRATIVE MATTERS

3. Section 204.7002 is amended by revising paragraph (a)(2) to read as follows:

204.7002 Procedures.

(a) * * *

(2) Do not use the letter “I” or “O”.

* * * * *

4. Section 204.7003 is amended by revising paragraph (a)(1)(i)(J) and adding paragraph (a)(1)(i)(M) to read as follows:

204.7003 Basic PII number.

(a) * * *

(1) * * *

(i) * * *

(J) Ballistic Missile Defense Organization—HQ0006 and H95001.

* * * * *

(M) Defense Microelectronics Activity—DMEA.

* * * * *

5. Section 204.7303 is amended in paragraph (a)(2) by revising the last sentence to read as follows:

204.7303 Procedures.

(a) * * *

(2) * * * The contracting officer may verify registration using the DUNS number or, if applicable, the DUNS+4 number, by calling toll-free: 1-888-227-2423, commercial: (616) 961-5757, or DSN: 932-5757; via the Internet at http://www.ccr2000.com; or as otherwise provided by agency procedures.

* * * * *

PART 207—ACQUISITION PLANNING

207.105 [Amended]

6. Section 207.105 is amended by redesignating paragraph (b)(18) as paragraph (b)(19).

PART 208_REQUIRED SOURCES OF SUPPLIES AND SERVICES

208.7301 [Amended]

7. Section 208.7301 is amended in the first definition by removing “Defense Industrial Supply Center (DISC)” and adding in its place “Defense Supply Center, Philadelphia (DSCP)”.

208.7305 [Amended]

8. Section 208.7305 is amended in paragraph (a)(1) by removing “DISC” and adding in its place “DSCP”.

PART 222—APPLICATION OF LABOR LAWS TO GOVERNMENT ACQUISITIONS

222.604-2 [Amended]

9. Section 222.604-2 is amended by redesignating paragraph (c) as paragraph (b).

222.608 and 222.608-4 [Removed]

10. Sections 222.608 and 222.608-4 are removed.

PART 252—SOLICITATION PROVISIONS AND CONTRACT CLAUSES

252.204-7004 [Amended]

11. Section 252.204-7004 is amended by revising the clause date to read “(MAR 2000)”; and in paragraph (d) by removing “http://ccr.edi.disa.mil” and adding in its place “http://www.ccr2000.com”.

252.227-7030 [Amended]

12. Section 252.227-7030 is amended by revising the clause date to read “(MAR 2000)”; and in paragraph (a) in the first sentence by removing “252.227-7013(k)” and adding in its place “252.227-7013(e)(2) or 252.227-7018(e)(2)”

Appendix B—Coordinated Acquisition Assignments

13. Appendix B to Chapter 2 is amended by revising Part 5 to read as follows:

Appendix B—Coordinated Acquisition Assignments

* * * * *

PART 5—DEFENSE THREAT REDUCTION AGENCY ASSIGNMENTS

Federal supply class code | Commodity
1105 | Nuclear Bombs.
1110 | Nuclear Projectiles.
1115 | Nuclear Warheads and Warhead Sections.
1120 | Nuclear Depth Charges.
1125 | Nuclear Demolition Charges.
1127 | Nuclear Rockets.
1130 | Conversion Kits, Nuclear Ordnance.
1135 | Fuzing and Firing Devices, Nuclear Ordnance.
1140 | Nuclear Components.
1145 | Explosive and Pyrotechnic Components, Nuclear Ordnance.
1190 | Specialized Test and Handling Equipment, Nuclear Ordnance.
1195 | Miscellaneous Nuclear Ordnance.

In addition to the above, assignments to the Defense Threat Reduction Agency (DTRA) include all items for which DTRA provides logistics management or has integrated management responsibilities in accordance with the DTRA Charter.

E-202 [Amended]

14. Appendix E to Chapter 2 is amended in Part 2, Section E-202, paragraph (c), in the second sentence, by removing “Defense Logistics Service Center” and adding in its place “Defense Logistics Information Service”.

15. Appendix E to Chapter 2 is amended in Part 2, Section E-204.2, as follows:

a. By revising paragraph (a) introductory text;

b. In paragraph (b) introductory text by removing “shall” and adding in its place “will”;

c. In paragraphs (b)(1) and (b)(2) by removing “DLSC” and adding in its place “DLIS”. The revised text reads as follows:

Appendix E—DOD Spare Parts Breakout Program

* * * * *

E-204.2 Responsibilities.

(a) The Defense Logistics Information Service (DLIS) will—

* * * * *

16. Appendix F to Chapter 2 is amended in Part 7, Section F-702, by designating the table following the text as Table 3, and by revising newly designated Table 3 to read as follows:

Appendix F—Material Inspection and Receiving Report

* * * * *

F-702 Corrected DD Form 250-1.

* * * * *

Table 3
Type of shipment | Recipient of DD Form 250-1 | Number of copies: Loading (Prepared by shipper or Government representative): Tanker | Number of copies: Loading (Prepared by shipper or Government representative): Barge | Number of copies: Discharge (Prepared by receiving activity): Tanker | Number of copies: Discharge (Prepared by receiving activity): Barge
All (On overseas shipments, provide for a minimum of 4 consignees. Place 1 copy, attached to ullage report, in each of 4 envelopes. Mark the envelopes, “Consignee—First Destination,” “Consignee—Second Destination,” etc. Deliver via the vessel) | Each Consignee (by mail CONUS only) | 2 | 1 | As Required | As Required
| With Shipment | 1 | 1 | As Required | As Required
| Master of Vessel | 1 | 1 | 1 | 1
| Tanker or Barge Agent | 2 | 2 | 2 | 2
| Contractor | As Required | As Required | As Required | As Required
| Cognizant Inspection Office | 1 | 1 | 1 | 1
| Government Representative responsible for quality at each destination | 1 | 1 | 1 | 1
| Government Representative at Cargo Loading Point | 1 | 1 | 1* | 1*
On all USNS tankers and all MSC chartered tankers and MSC chartered barges | Military Sealift Command, Code N322, Washington, DC 20396-5100 | 2 | 2 | 2 | 2
See the contract or shipping order for finance documentation and any supplemental requirements for Government-owned product shipments and receipts | Payment Office: If this is DFAS-CO, send copies to: Defense Energy Support Center, ATTN: DESC-FII, 8725 John J. Kingman Road, Fort Belvoir, VA 22060-6221 (do not send copies to DFAS-CO) | 2 | 2 | 2 | 2
For shipments and receipts of DESC financed cargoes for which DFAS-CO is not the paying office | Defense Energy Support Center, ATTN: DESC-FII, 8725 John J. Kingman Road, Fort Belvoir, VA 22060-6221 | 1 | 1 | 1 | 1
For shipments on all USNS tankers, MSC chartered tankers and barges, and FOB destination tankers with copy of ullage report | Defense Energy Support Center, ATTN: DESC-BID, 8725 John J. Kingman Road, Fort Belvoir, VA 22060-6221 | 1 | 1 | 1** | 1
On Army ILP shipments | U.S. Army International Logistics Center, New Cumberland Army Depot, New Cumberland, PA 17070-5001 | 2 | 2 | 2 | 2
NAVY—On all shipments to Navy Operated Terminals | Defense Energy Support Center, ATTN: DESC-FII, 8725 John J. Kingman Road, Fort Belvoir, VA 22060-6221 | 2 | 1 | 2 | 1
On all shipments to AF Bases | Directorate of Energy Management, SA ALC(SFT), Kelly AFB, TX 78241-5000 | 1 | 1 | 1 | 1
On all CONUS loadings | DESC Region(s) cognizant of shipping point | 1 | 1 | 1 | 1
On all shipments to CONUS Destinations | DESC Region(s) cognizant of shipping and receiving point.**** | 1 | 1 | 0 | 0
For all discharges of cargoes originating at Defense Energy Support Points and discharging at activities not Defense Energy Support Points | Defense Energy Support Center, ATTN: DESC-BID, 8725 John J. Kingman Road, Fort Belvoir, VA 22060-6221 |  |  | 1*** | 1***
* With copy of ullage report.
** Dry tank certificate to accompany DD Form 250-1 and ullage report.
*** Copies of the DD Form 250-1, forwarded by bases, will include the following in Block 11: Shipped to: Supplementary Address, if applicable; Signed Code; and Fund Code.
**** See Table 4.

[FR Doc. 00-6168 Filed 3-15-00; 8:45 am]

BILLING CODE 5000-04-M